DEPARTMENT OF STATE

[Public Notice: 7788]

30-Day Notice of Proposed Information Collection: DS-230, Application for Immigrant Visa and Alien Registration, OMB Number 1405-0015

ACTION: Notice of request for public comment and submission to OMB of proposed collection of information.

SUMMARY: The Department of State has submitted the following information collection request to the Office of Management and Budget (OMB) for approval in accordance with the Paperwork Reduction Act of 1995.

• Title of Information Collection: Application for Immigrant Visa and Alien Registration.

• OMB Control Number: 1405-0015.

• Type of Request: Revision of a currently approved collection.

• Originating Office: CA/VO/L/R.

• Form Number: DS-230.

• Respondents: Immigrant Visa Applicants.

• Estimated Number of Respondents: 672,000.

• Estimated Number of Responses: 672,000.

• Average Hours per Response: 2 hours.

• Total Estimated Burden: 1,344,000.

• Frequency: Once per applicant.

• Obligation to Respond: Required to Obtain or Retain a Benefit.

DATES: Submit comments to the Office of Management and Budget (OMB) for up to 30 days from February 7, 2012.

ADDRESSES: Direct comments to the Department of State Desk Officer in the Office of Information and Regulatory Affairs at the Office of Management and Budget (OMB). You may submit comments by the following methods:

• Email: oira_submission@omb.eop.gov. You must include the DS form number, information collection title, and OMB control number in the subject line of your message.

• Fax: (202) 395-5806. Attention: Desk Officer for Department of State.

FOR FURTHER INFORMATION CONTACT: You may obtain copies of the proposed information collection and supporting documents from Sydney Taylor, Visa Services, Department of State 2401 E Street, NW., L-603, Washington, DC 20522, who may be reached at (202) 663-3721.

SUPPLEMENTARY INFORMATION:

We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection:

The Department of State uses Form DS-230 (Application for Immigrant Visa and Alien Registration), in conjunction with a personal interview, to determine an applicant's eligibility for an immigrant visa. The form requests only information necessary to determine the applicant's eligibility for a requested immigrant visa. An immigrant visa may not be issued without the requested information.

Methodology:

The form is required to be filled out and completed by the applicant. This application can also be collected for free at consular posts worldwide.

Dated: January 25, 2012.
Edward Ramotowski,
Managing Director, Visa Services, Bureau of Consular Affairs, Department of State.

[FR Doc. 2012-2807 Filed 2-6-12; 8:45 am]

BILLING CODE 4710-06-P